EXECUTIVE OFFICE OF THE PRESIDENT

National Commission on Fiscal Responsibility and Reform

NCFRR Meeting Change From November 10 to November 30

ACTION: Notice of meeting schedule change.

In accordance with section 10(a)(2) of the Federal Advisory Committee Act (Pub. L. 92-463), the National Commission on Fiscal Responsibility and Reform, authorized by Executive Order 13531, dated February 18, 2010, announces the following change to its 2010 meeting schedule:

Date Change: The meeting originally scheduled for Wednesday, November 10, originally announced in the Federal Register on Tuesday, May 11, 75 FR 26185, DOCID fr11my10-37, will now be held on Tuesday, November 30. Below is the Commission's meeting schedule for the remainder of the calendar year:

Time and Date: Tuesday, November 30, 9:30 a.m.-12:30 p.m. EST.

Wednesday, December 1, 9:30 a.m.-12:30 p.m. EST.

Place: The meetings will be held in Washington, DC at locations to be determined and announced. The meeting address will be made publicly available approximately two weeks prior to each meeting on the Commission's Web site at http://www.fiscalcommission.gov.

Public Access: The meetings will be open to the public, but seating will be limited by the space available on a first come, first served basis.

Purpose: This notice announces changes to the remaining meeting schedule of the National Commission on Fiscal Responsibility and Reform (Commission). At these meetings the Commission will discuss the Nation's long-term fiscal challenges. A more complete agenda and any meeting materials will be made publicly available prior to each meeting at http://www.fiscalcommission.gov. Also, each meeting will be available via simultaneous Web cast at http://www.whitehouse.gov/live.

Contact Person for Additional Information: Please contact Conor McKay for any additional information about a specific meeting at 202-233-3000, or by e-mail at cmckay@fc.eop.gov.

Public Comment: If you would like to submit written comments for distribution prior to the meeting, your comments should be received by the Commission no later than 10 days prior to the meeting concerned. The preferred written comment format is MS Word submitted to commission@fc.eop.gov.

Information on Services for Individuals With Disabilities

For information on facilities or services for individuals with disabilities or to request special assistance at the meetings, please inform the DFO at cmckay@fc.eop.gov as soon as possible.

Dated: October 22, 2010.
Conor McKay,
Chief of Staff of the Commission.

[FR Doc. 2010-27184 Filed 10-25-10; 8:45 am]

BILLING CODE 3160-01-P